DEPARTMENT OF AGRICULTURE

U.S. Codex Office

Codex Alimentarius Commission: Meeting of the Codex Committee on Pesticide Residues

AGENCY: U.S. Codex Office, USDA.

ACTION: Notice of public meeting and request for comments.

SUMMARY: The U.S Codex Office is sponsoring a public meeting on March 7, 2019. The objective of the public meeting is to provide information and receive public comments on agenda items and draft United States (U.S.) positions to be discussed at the 51st Session of the Codex Committee on Pesticide Residues (CCPR) of the Codex Alimentarius Commission, in Macau Special Administrative Region (SAR) of the People's Republic of China, April 8-13, 2019. The U.S. Manager for Codex Alimentarius and the Under Secretary for Trade and Foreign Agricultural Affairs recognize the importance of providing interested parties the opportunity to obtain background information on the 51st Session of the CCPR and to address items on the agenda.

DATES: The public meeting is scheduled for Thursday, March 7, 2019 from 1 p.m. to 3 p.m. EST.

ADDRESSES: The public meeting will take place at the United States Environmental Protection Agency, Room PYS-4350, One Potomac Yard South, 2777 South Crystal Drive, Arlington, VA 22202. Documents related to the 51st Session of the CCPR will be accessible via the internet at the following address: http://www.fao.org/fao-who-codexalimentarius/meetings/en/.

Captain David Miller, U.S. Delegate to the 51st Session of the CCPR invites U.S. interested parties to submit their comments electronically to the following email address: miller.davidj@epa.gov.

Call-in-Number: If you wish to participate in the public meeting for the 51st Session of the CCPR by conference call, please use the call-in-number: 1-888-844-9904 and participant code 5126092.

Registration: Attendees may register to attend the public meeting by emailing Marie.Maratos@osec.usda.gov by March 4, 2019. Early registration is encouraged because it will expedite entry into the building. The meeting will take place in a Federal building. Attendees should bring photo identification and plan for adequate time to pass through the security screening systems. Attendees who are not able to attend the meeting in person, but who wish to participate, may do so by phone, as discussed above.

For Further Information about the 51st Session of the CCPR Contact: U.S. Delegate, Captain David Miller, Chief, Chemistry and Exposure Branch and Acting Chief, Toxicology and Epidemiology Branch, Health Effects Division, Ariel Rios Building, 1200 Pennsylvania Avenue NW, Washington, DC 20460. Telephone: (703) 305-5352, Fax: (703) 305-5147, Email: Miller.Davidj@epa.gov.

For Further Information about the Public Meeting Contact: Marie Maratos, U.S. Codex Office, 1400 Independence Avenue SW, Room 4861, South Agriculture Building, Washington, DC 20250. Phone: (202) 690-4795, Fax: (202) 720-3157, Email: Marie.Maratos@osec.usda.gov.

SUPPLEMENTARY INFORMATION:

Background

Codex was established in 1963 by two United Nations organizations, the Food and Agriculture Organization (FAO) and the World Health Organization (WHO). Through adoption of food standards, codes of practice, and other guidelines developed by its committees, and by promoting their adoption and implementation by governments, Codex seeks to protect the health of consumers and ensure fair practices in the food trade.

The Terms of Reference of the Codex Committee on Pesticide Residues (CCPR) are:

(a) To establish maximum limits for pesticide residues in specific food items or in groups of food;

(b) to establish maximum limits for pesticide residues in certain animal feeding stuffs moving in international trade where this is justified for reasons of protection of human health;

(c) to prepare priority lists of pesticides for evaluation by the Joint FAO/WHO Meeting on Pesticide Residues (JMPR);

(d) to consider methods of sampling and analysis for the determination of pesticide residues in food and feed;

(e) to consider other matters in relation to the safety of food and feed containing pesticide residues; and,

(f) to establish maximum limits for environmental and industrial contaminants showing chemical or other similarity to pesticides, in specific food items or groups of food.

The CCPR is hosted by China. The United States attends CCPR as a member country of Codex.

Issues To Be Discussed at the Public Meeting

The following items on the Agenda for the 51st Session of the CCPR will be discussed during the public meeting:

• Adoption of the Agenda

• Appointment of Rapporteurs

• Matters referred to CCPR by CAC and/or other subsidiary bodies

• Matters of interest arising from FAO and WHO

• Matters of interest arising from other international organizations

• Report on items of general consideration by the 2018 JMPR—Section 2 of the 2018 JMPR Report

• Report on 2018 JMPR responses to specific concerns raised by CCPR—Section 3 of the 2018 JMPR Report

• Proposed MRLs for pesticides in food and feed (at Steps 7 and 4)

• Revision of the Classification of Food and Feed (CXM 4/1989)

• Class C—Primary feed commodities; Type 11: Primary feed commodities of plant origin

Proposed:

Group 050: Legume feed products

Group 051: Cereal grains and grasses

(including pseudocereals) feed products

Group 052: Miscellaneous feed products

• Class D—Processed foods of plant origin; All types in Class D

Proposed groups in different types

• Transfer of commodities from Class D to Class C

• Proposed table on examples of representative commodities for commodity groups in different types under Class C and Class D (for inclusion in the Principles and Guidance for the Selection of Representative Commodities for the Extrapolation of MRLs for Pesticides to Commodity Group (CXG 84-2012)

• Impact of the revised types in Class C and Class D on CXLs

• Any Class—Type on miscellaneous commodities not meeting the criteria for crop grouping

Proposed groups (including any possible impact of the new types on CXLs)

• Class B—Primary food commodities of animal origin

Common definition of edible animal tissues for the establishment of MRLs of pesticides and veterinary drugs for compounds with dual uses as pesticides and veterinary drugs for use by CCPR and CCRVDF

• Discussion paper on the opportunity to revise the Guidelines on the use of mass spectrometry for the identification, confirmation and quantitative determination of pesticide residues (CXG 56-2005)

• Discussion paper on the review of the International Estimate of Short Term Intake (IESTI) equations

• Discussion paper on opportunities and challenges for JMPR participation in an international review of a new compound

• Discussion paper on the development of guidance for compounds of low public health concerns that could be exempted from the establishment of CXLs

• Discussion paper on the management of unsupported compounds

• Information on national registrations of pesticides

• Establishment of Codex Schedules and Priority Lists of Pesticides

• Other Business and Future Work

Public Meeting

At the March 7, 2019, public meeting, draft U.S. positions on the agenda items will be described and discussed, and attendees will have the opportunity to pose questions and offer comments. Written comments may be offered at the meeting or sent to David Miller, U.S. Delegate for the 51st Session of the CCPR (see ADDRESSES). Written comments should state that they relate to activities of the 51st Session of the CCPR.

Additional Public Notification

Public awareness of all segments of rulemaking and policy development is important. Consequently, the U.S. Codex Office will announce this Federal Register publication on-line through the USDA web page located at: http://www.usda.gov/codex/, a link that also offers an email subscription service providing access to information related to Codex. Customers can add or delete their subscription themselves and have the option to password protect their accounts.

USDA Non-Discrimination Statement

No agency, officer, or employee of the USDA shall, on the grounds of race, color, national origin, religion, sex, gender identity, sexual orientation, disability, age, marital status, family/parental status, income derived from a public assistance program, or political beliefs, exclude from participation in, deny the benefits of, or subject to discrimination any person in the United States under any program or activity conducted by the USDA.

How To File a Complaint of Discrimination

To file a complaint of discrimination, complete the USDA Program Discrimination Complaint Form, which may be accessed online at http://www.ocio.usda.gov/sites/default/files/docs/2012/Complain_combined_6_8_12.pdf, or write a letter signed by you or your authorized representative. Send your completed complaint form or letter to USDA by mail, fax, or email.

Mail: U.S. Department of Agriculture, Director, Office of Adjudication, 1400 Independence Avenue SW, Washington, DC 20250-9410.

Fax: (202) 690-7442, Email: program.intake@usda.gov.

Persons with disabilities who require alternative means for communication (Braille, large print, audiotape, etc.) should contact USDA's TARGET Center at (202) 720-2600 (voice and TDD).

Done at Washington, DC, on February 5, 2019.
Mary Lowe,
U.S. Manager for Codex Alimentarius.

[FR Doc. 2019-03176 Filed 2-22-19; 8:45 am]

BILLING CODE P